DEPARTMENT OF ENERGY

Federal Energy Regulatory Commission

[Docket Nos. CP14-517-000; CP14-518-000]

Golden Pass Pipeline, LLC; Golden Pass Products, LLC; Notice of Availability of the Final Environmental Impact Statement for the Proposed Golden Pass LNG Export Project

The staff of the Federal Energy Regulatory Commission (FERC or Commission) has prepared a final environmental impact statement (EIS) for the Golden Pass Liquefied Natural Gas (LNG) Export Project, proposed by Golden Pass Products, LLC and Golden Pass Pipeline, LLC (collectively referred to as Golden Pass) in the above-referenced docket. Golden Pass requests authorization to expand and modify the existing Golden Pass LNG Import Terminal to allow the export of LNG, which would require construction and operation of various liquefaction, LNG distribution, and appurtenant facilities. The Project would also include construction of approximately 2.6 miles of 24-inch pipeline, three new compressor stations, and interconnections for bi-directional transport of natural gas to and from the Golden Pass LNG Export terminal.

The final EIS assesses the potential environmental effects of the construction and operation of the Golden Pass LNG Export Project in accordance with the requirements of the National Environmental Policy Act (NEPA). The FERC staff concludes that approval of the proposed project, with the mitigation measures recommended in the EIS, would result in some adverse environmental impact; however, those impacts would not be significant with implementation of Golden Pass' proposed mitigation and the additional measures recommended in the draft EIS.

The U.S. Army Corps of Engineers, U.S. Coast Guard, U.S. Department of Energy, U.S. Department of Transportation, and U.S. Environmental Protection Agency participated as cooperating agencies in the preparation of the EIS. Cooperating agencies have jurisdiction by law or special expertise with respect to resources potentially affected by the proposal and participate in the NEPA analysis. Although the cooperating agencies provided input to the conclusions and recommendations presented in the EIS, the agencies will present their own conclusions and recommendations in their respective Records of Decision for the project.

The final EIS addresses the potential environmental effects of the construction and operation of the following project facilities:

• Liquefaction facilities at the existing Golden Pass Export Terminal including three liquefaction trains, a truck unloading facility, refrigerant and condensate storage, safety and control systems, and associated infrastructure;

• a supply dock and alternate marine delivery facilities at the Terminal;

• three miles of a new 24-inch-diameter pipeline loop ¹ adjacent to the existing Golden Pass pipeline;

¹ A loop is a segment of pipe that is installed adjacent to an existing pipeline and connected to it at both ends. A loop generally allows more gas to move through the system.

• three new compressor stations;

• five new pipeline interconnections and modifications at existing pipeline interconnections; and

• miscellaneous appurtenant facilities.

The FERC staff mailed copies of the EIS to federal, state, and local government representatives and agencies; elected officials; environmental and public interest groups; Native American tribes; potentially affected landowners and other interested individuals and groups; newspapers and libraries in the project area; and parties to this proceeding. Paper copy versions of this EIS were mailed to those specifically requesting them; all others received a CD version. In addition, the EIS is available for public viewing on the FERC's Web site (www.ferc.gov) using the eLibrary link. A limited number of copies are available for distribution and public inspection at: Federal Energy Regulatory Commission, Public Reference Room, 888 First Street NE., Room 2A, Washington, DC 20426, (202) 502-8371.

Additional information about the project is available from the Commission's Office of External Affairs, at (866) 208-FERC, or on the FERC Web site (www.ferc.gov) using the eLibrary link. Click on the eLibrary link, click on “General Search,” and enter the docket number excluding the last three digits in the Docket Number field (i.e., CP14-517 or CP14-518). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: July 29, 2016.
Kimberly D. Bose,
Secretary.

[FR Doc. 2016-18489 Filed 8-3-16; 8:45 am]

BILLING CODE 6717-01-P